DEPARTMENT OF ENERGY

Federal Energy Regulatory Commission

Combined Notice of Filings #2

Take notice that the Commission received the following exempt wholesale generator filings:

Docket Numbers: EG18-8-000.

Applicants: 54KR 8ME LLC.

Description: Notice of Self-Certification of Exempt Wholesale Generator Status of 54KR 8me LLC.

Filed Date: 10/19/17.

Accession Number: 20171019-5108.

Comments Due: 5 p.m. ET 11/9/17.

Take notice that the Commission received the following electric rate filings:

Docket Numbers: ER18-7-001.

Applicants: Lamarr Energy, LLC.

Description: Tariff Amendment: Market Based Rate Tariff to be effective 12/1/2017.

Filed Date: 10/19/17.

Accession Number: 20171019-5079.

Comments Due: 5 p.m. ET 11/9/17.

Docket Numbers: ER18-7-002.

Applicants: Lamarr Energy, LLC.

Description: Tariff Amendment: Market Based Rate Tariff to be effective 12/1/2017.

Filed Date: 10/19/17.

Accession Number: 20171019-5099.

Comments Due: 5 p.m. ET 11/9/17.

Docket Numbers: ER18-103-000.

Applicants: 67RK 8me LLC.

Description: § 205(d) Rate Filing: SFA to be effective 10/20/2017.

Filed Date: 10/19/17.

Accession Number: 20171019-5034.

Comments Due: 5 p.m. ET 11/9/17.

Docket Numbers: ER18-104-000.

Applicants: 67RK 8me LLC.

Description: § 205(d) Rate Filing: Co-Tenancy Agreement to be effective 10/20/2017.

Filed Date: 10/19/17.

Accession Number: 20171019-5035.

Comments Due: 5 p.m. ET 11/9/17.

Docket Numbers: ER18-105-000.

Applicants: 65HK 8me LLC.

Description: § 205(d) Rate Filing: 65HK 8me LLC Hayworth SFA to be effective 10/20/2017.

Filed Date: 10/19/17.

Accession Number: 20171019-5036.

Comments Due: 5 p.m. ET 11/9/17.

Docket Numbers: ER18-106-000.

Applicants: 87RL 8me LLC.

Description: § 205(d) Rate Filing: 87RL 8me LLC Woodmere SFA to be effective 10/20/2017.

Filed Date: 10/19/17.

Accession Number: 20171019-5037.

Comments Due: 5 p.m. ET 11/9/17.

Docket Numbers: ER18-107-000.

Applicants: 65HK 8me LLC.

Description: § 205(d) Rate Filing: 65HK 8me LLC Hayworth Co-Tenancy Agreement to be effective 10/20/2017.

Filed Date: 10/19/17.

Accession Number: 20171019-5038.

Comments Due: 5 p.m. ET 11/9/17.

Docket Numbers: ER18-108-000.

Applicants: 87RL 8me LLC.

Description: § 205(d) Rate Filing: 87RL 8me LLC Woodmere Co-Tenancy Agreement to be effective 10/20/2017.

Filed Date: 10/19/17.

Accession Number: 20171019-5039.

Comments Due: 5 p.m. ET 11/9/17.

Docket Numbers: ER18-109-000.

Applicants: Nevada Power Company.

Description: Tariff Cancellation: Rate Schedule No. 153 NPC/Aha Macav Termination to be effective 10/20/2017.

Filed Date: 10/19/17.

Accession Number: 20171019-5083.

Comments Due: 5 p.m. ET 11/9/17.

Docket Numbers: ER18-110-000.

Applicants: Duke Energy Progress, LLC.

Description: § 205(d) Rate Filing: DEP Five Towns Pro Forma NITSA Filing to be effective 1/1/2018.

Filed Date: 10/19/17.

Accession Number: 20171019-5098.

Comments Due: 5 p.m. ET 11/9/17.

Docket Numbers: ER18-111-000.

Applicants: The United Illuminating Company.

Description: § 205(d) Rate Filing: Pootatuck Ring Bus Expansion Agreement to be effective 10/20/2017.

Filed Date: 10/19/17.

Accession Number: 20171019-5111.

Comments Due: 5 p.m. ET 11/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2017.
Nathaniel J. Davis, Sr.,
Deputy Secretary.

[FR Doc. 2017-23285 Filed 10-25-17; 8:45 am]

BILLING CODE 6717-01-P